DEPARTMENT OF JUSTICE

Notice of Lodging of Consent Decree Under Comprehensive Environmental Response, Compensation and Liability Act

Under 28 CFR 50.7, notice is hereby given that on May 17, 2010, a proposed Consent Decree in United States v. Schurkman, et al., Civil Action No. 07-915 (KMK) (LMS), was lodged with the United States District Court for the Southern District of New York.

The proposed Consent Decree resolves claims of the United States, on behalf of the Environmental Protection Agency (“EPA”), under the Comprehensive Environmental Response, Compensation, and Liability Act (“CERCLA”), 42 U.S.C. 9601 et seq., and the Federal Debt Collections Procedures Act (“FDCPA”), 28 U.S.C. 3304 and 3306, in connection with the Shenandoah Road Groundwater Contamination Superfund Site (the “Site”), against Steven A. Schurkman, Esq., in his capacity as Trustee of the Jacob Manne Irrevocable Trust (“Schurkman”), and Joseph S. Manne, in his capacity as the representative of the Estate of Jacob Manne. The complaint filed in this action sought reimbursement of response costs incurred or to be incurred for response actions taken or to be taken at or in connection with the release or threatened release of hazardous substances at the Site, a declaration that the Estate of Jacob Manne is liable for any future response costs incurred by the United States at the Site, and, pursuant to Sections 3304 and 3306 of the FDCPA, an order voiding a transfer of cash and real property from Jacob Manne to the Jacob Manne Irrevocable Trust (the “Trust”).

The Consent Decree requires payment to the United States of the appraised value of five parcels of real property in East Fishkill (unrelated to the Site property) (the “Land”) that had been in the Estate of Jacob Manne and transferred to the Trust. Specifically, Schurkman will convey the Land held by the Trust to a new corporation, ND-4, LLC. Settling Defendants Dr. Joseph S. Manne (Jacob Manne's son), personally, and as the representative of the Estate of Jacob Manne, and ND-4, LLC, will pay the United States the appraised value of the Land within three years of entry of the Consent Decree, whether the properties are sold within that time frame or not. There are minimal assets in the Estate of Jacob Manne other than the Land.

The Department of Justice will receive for a period of 30 days from the date of this publication comments relating to the proposed Consent Decree. Comments should be addressed to the Assistant Attorney General of the Environment and Natural Resources Division, Department of Justice, Washington, DC 20530, and either e-mailed to pubcomment-ees.enrd@usdoj.gov or mailed to P.O. Box 7611, U.S. Department of Justice, Washington, DC 20044-7611, and should refer to United States v. Schurkman, et al., Civil Action No. 07-915 (KMK) (LMS), DJ No. 90-11-3-08989.

The proposed Consent Decree may be examined at the Office of the United States Attorney, Southern District of New York, 86 Chambers Street, New York, New York 10007. During the public comment period, the proposed Consent Decree may also be examined on the following Department of Justice Web site, http://www.usdoj.gov/enrd/Consent_Decrees.html. A copy of the proposed Consent Decree may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy of the proposed Consent Decree, please enclose a check in the amount of $8.50 (25 cent per page reproduction cost) payable to the U.S. Treasury.

Maureen Katz,
Assistant Section Chief, Environmental Enforcement Section, Environment and Natural Resources Division.

[FR Doc. 2010-12585 Filed 5-25-10; 8:45 am]

BILLING CODE 4410-15-P